DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by December 22, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

PRT-077020

Applicant: Barbara Watson, East New Market, MD.

The applicant requests a permit to import the sport-hunted of one male bontebok (Damaliscus pygargus dorcas) culled from a captive herd maintained under the management program of the Republic of South Africa, for the purpose of enhancement of the survival of the species.

PRT-079033

Applicant: U.S. Fish and Wildlife Service/Cabeza Prieta National Wildlife Refuge, Ajo, AZ.

The applicant requests a permit to import up to 15 live Sonoran pronghorn antelope (Antilocapra americana sonoriensis) from the wild in Mexico for the purpose of enhancement of the survival of the species and scientific research in accordance with the U.S. Fish and Wildlife Service's Sonoran pronghorn recovery plan. This notification covers activities to be conducted by the applicant over a five-year period.

PRT-077487, 077489

Applicant: Steve Martin's Working Wildlife, Frazier Park, CA.

The applicant requests permits to export and re-import captive born tigers (Panthera tigris) to worldwide locations for the purpose of enhancement of the species through conservation education. The permit numbers and animals are: 077487, Asia, and 077489, Rhia. This notification covers activities to be conducted by the applicant over a three-year period and the import of any potential progeny born while overseas.

PRT-079014

Applicant: Virginia Tech, Department of Biomedical Sciences & Pathobiology, Blacksburg, VA.

The applicant requests a permit to import non-invasively collected samples of urine, hair, and feces of chimpanzee (Pan troglodytes) from Mahale Mountains National Park, Tanzania for the purpose of scientific research. This notification covers activities to be conducted by the applicant over a five-year period.

Marine Mammals

The public is invited to comment on the following application for a permit to conduct certain activities with marine mammals. The application was submitted to satisfy requirements of the Marine Mammal Protection Act of 1972, as amended (16 U.S.C. 1361 et seq.), and the regulations keep governing marine mammals (50 CFR part 18). Written data, comments, or requests for copies of the complete application or requests for a public hearing on this application should be submitted to the Director (address above). Anyone requesting a hearing should give specific reasons why a hearing would be appropriate. The holding of such a hearing is at the discretion of the Director.

PRT-079001

Applicant: Ralph F. Duceour, Pleasanton, CA.

The applicant requests a permit to import a polar bear (Ursus maritimus) sport hunted from the Lancaster Sound polar bear population in Canada for personal use.

Dated: October 31, 2003.
Monica Farris,
Senior Permit Biologist, Branch of Permits, Division of Management Authority.

[FR Doc. 03-28987 Filed 11-19-03; 8:45 am]

BILLING CODE 4310-55-P